DEPARTMENT OF COMMERCE

International Trade Administration

[Application No. 85-16A18]

Export Trade Certificate of Review

ACTION: Notice of Issuance of an amended Export Trade Certificate of Review to U.S. Shippers Association (Application #85-16A18).

SUMMARY: The U.S. Department of Commerce issued an amended Export Trade Certificate of Review to U.S. Shippers Association (“USSA”) on August 9, 2010. The Certificate has been amended sixteen times. The previous amendment was issued to USSA on December 16, 2008, and a notice of its issuance was published in the Federal Register on December 22, 2008 (73 FR 78291). The original Certificate for USSA was issued on June 3, 1986, and a notice of its issuance was published in the Federal Register on June 9, 1986 (51 FR 20873).

FOR FURTHER INFORMATION CONTACT: Joseph E. Flynn, Director, Office of Competition and Economic Analysis, International Trade Administration, by telephone at (202) 482-5131 (this is not a toll-free number) or e-mail at etca@trade.gov.

SUPPLEMENTARY INFORMATION: Title III of the Export Trading Company Act of 1982 (15 U.S.C. Sections 4001-21) authorizes the Secretary of Commerce to issue Export Trade Certificates of Review. The regulations implementing Title III are found at 15 CFR Part 325 (2010).

The Office of Competition and Economic Analysis (“OCEA”) is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

USSA's Export Trade Certificate of Review has been amended to:

1. Add the following new Members of the Certificate within the meaning of section 325.2(1) of the Regulations (15 CFR 325.2(1)): Sekisui Specialty Chemicals America, LLC, Dallas, TX (controlling entity: Sekisui America Corporation, Mt. Laurel, NJ); and Thomas M. Johnson, Park Ridge, NJ.

2. USSA also seeks to add Cray Valley USA, LLC, Exton, PA (controlling entity: TOTAL Holdings USA, Inc., Houston, TX) and Sartomer USA, LLC, Exton, PA (controlling entity: TOTAL Holdings USA, Inc., Houston, TX) as new Members of the Certificate within the meaning of section 325.2(1) of the Regulations (15 CFR 325.2(1)). These two entities are the surviving entities following a reorganization of Sartomer Company, Inc., Exton, PA (previously a Member of USSA's Certificate).

3. Delete the following Members from USSA's Certificate: Atotech USA, Inc., Rockhill, SC; Bostik, Inc., Wauwatosa, WI; Cook Composites and Polymers Co., Kansas City, MO; Hutchinson FTS, Inc., Troy, MI; Paulstra CRC Corporation, Grand Rapids, MI; TOTAL Lubricants USA, Inc., Linden, NJ; TOTAL PETROCHEMICALS USA, INC., Houston, TX; Carrie M. Bowden, Missouri City, TX; Dawn K. Peterson, Katy, TX; and Sartomer Company, Inc., Exton, PA.

Dated: August 11, 2010.
Joseph E. Flynn,
Director, Office of Competition and Economic Analysis.

[FR Doc. 2010-20232 Filed 8-16-10; 8:45 am]

BILLING CODE 3510-DR-P